DEPARTMENT OF AGRICULTURE

Forest Service

Information Collection; Request for Comments; Youth Conservation Corps Employment

AGENCY: Forest Service, USDA.

ACTION: Notice.

SUMMARY: In accordance with the Paperwork Reduction Act of 1995, the Forest Service announces its intention to reinstate a previously approved information collection. The collected information will help the Forest Service evaluate the employment eligibility of youth 15 to 18 years old through the Youth Conservation Corps Program. Under this Program, the Forest Service cooperates with other Federal agencies to provide seasonal employment for youth.

DATES: Comments must be received in writing on or before April 10, 2000.

ADDRESSES: All comments should be addressed to Director, Youth Conservation Corps, Senior, Youth and Volunteer Programs, (Mail Stop 1136), Forest Service, USDA, P.O. Box 96090, Washington, DC 20090-6090.

Comments also may be submitted via facsimile to (703) 605-5115 or by e-mail to syvp/wo@fs.fed.us.

The public may inspect comments at the Office of the Director, Senior, Youth and Volunteer Programs, Forest Service, USDA, Room 1010, 1621 North Kent Street, Arlington, Virginia 22209. Visitors are asked to call ahead to facilitate entrance into the office.

FOR FURTHER INFORMATION CONTACT: Ransom Hughes, Youth Conservation Corps, Senior, Youth and Volunteer Programs at (703) 605-4854.

SUPPLEMENTARY INFORMATION:

Background

Under the Youth Conservation Corps Act of August 13, 1970, as amended (U.S.C. 18701-1706), the Forest Service, U.S. Department of Agriculture and the Fish and Wildlife Service and National Park Service, U.S. Department of Interior cooperate to provide seasonal employment for eligible youth 15 to 18 years old.

These youth, who seek training and employment with the Forest Service through the Youth Conservation Corps, must complete the following forms: FS-1800-18, Youth Conservation Corps Application, and FS-1800-3, Youth Conservation Corps Medical History. Forest Service employees use the information to evaluate the eligibility of each applicant.

The Youth Conservation Corps stresses three important objectives:

• Accomplish needed conservation work on public lands;

• Provide gainful employment for 15 to 18 year old males and females from all social, economic, ethnic, and racial backgrounds; and

• Foster, on the part of the 15 to 18 year old youth, an understanding and appreciation of the Nation's natural resources and heritage.

Description of Information Collection

The following describes the information collection to be reinstated:

Title: FS-1800-18, Youth Conservation Corps (YCC) Application.

OMB Number: 0596-0084.

Expiration Date of Approval: October 31, 1997.

Type of Request: Reinstatement of an information collection previously approved by the Office of Management and Budget.

Abstract: Employees of the Forest Service, U.S. Department of Agriculture and the Fish and Wildlife Service and National Park Service, U.S. Department of Interior will evaluate the data and determine the eligibility of each youth for employment with the Youth Conservation Corps. To be considered for employment with the Corps, each youth must complete FS-1800-18, Youth Conservation Corps Application Form. Applicants are asked to answer questions that include their name, social security number, date of birth, mailing address, and telephone number. The applicant's parent or guardian must sign the form.

Data gathered in this information collection are not available from other sources.

Estimate of Annual Burden: 6 minutes.

Type of Respondents: Youth 15 to 18 years old.

Estimated Annual Number of Respondents: 18,000.

Estimated Annual Number of Responses per Respondent: 1.

Estimated Total Annual Burden on Respondents: 1800 hours.

Description of Information Collection

The following describes the information collection to be reinstated:

Title: FS-1800-3, Youth Conservation Corps Medical History.

OMB Number: 0596-0084.

Expiration Date of Approval: October 31, 1997.

Type of Request: Reinstatement of an information collection previously approved by the Office of Management and Budget.

Abstract: To be considered for employment through the Youth Conservation Corps Program, all youth must complete FS-1800-3, Youth Conservation Corps Medical History Form. Applicants are asked to answer questions regarding their personal health. The purpose of FS-1800-3 is to certify the youth's physical fitness to work in the seasonal employment Program. The applicant's parent or guardian must sign the form.

Data gathered in this information collection are not available from other sources.

Estimate of Annual Burden: 14 minutes.

Type of Respondents: Youth 15 to 18 years old.

Estimated Annual Number of Respondents: 18,000.

Estimated Annual Number of Responses per Respondent: 1.

Estimated Total Annual Burden on Respondents: 4200 hours.

Comment is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget.

Dated: February 3, 2000.
Gloria Manning,
Associate Deputy Chief, for Business Operations.

[FR Doc. 00-3011 Filed 2-9-00; 8:45 am]

BILLING CODE 3410-11-P